DEPARTMENT OF HOMELAND SECURITY

[DHS-2013-0037]

Committee Name: Homeland Security Information Network Advisory Committee (HSINAC)

AGENCY: Operation Coordination and Planning/Office of Chief Information Officer (OPS/OCIO)

ACTION: Committee Management; Notice of Federal Advisory Committee Meeting.

SUMMARY: The Homeland Security Information Network Advisory Council (HSINAC) will meet December 17, 2013 from 1 p.m.-3 p.m. EST virtually through HSIN Connect, an online web-conferencing tool and via teleconference. The meeting will be open to the public.

DATES: The HSINAC will meet Tuesday, December 17, 2013 from 1 p.m.—3 p.m. EST via conference call and HSIN Connect, an online web-conferencing tool, both of which will be made available to members of the general public. Please note that the meeting may end early if the committee has completed its business.

ADDRESSES: The meeting will be held virtually via HSIN Connect, an online web-conferencing tool at https://share.dhs.gov/hsinac, and available via teleconference at 1-800-320-4330 Conference Pin: 673978 for all public audience members. To access the web conferencing tool go to https://share.dhs.gov/hsinac, click on “enter as a guest”, type in your name as a guest and click “submit.” The teleconference lines will be open for the public and the meeting brief will be posted beforehand on the Federal Register site (https://www.federalregister.gov/). If the federal government is closed, the meeting will be rescheduled.

For information on facilities or services for individuals with disabilities or to request special assistance at the meeting, contact Michael Brody, michael.brody@hq.dhs.gov, 202-343-4211, as soon as possible.

To facilitate public participation, we are inviting public comment on the issues to be considered by the committee. Comments must be submitted in writing no later than December 13th and must be identified by the docket number—DHS-2013-0037—and may be submitted by one of the following methods:

• Federal eRulemaking Portal: http://www.regulations.gov. Follow the instructions for submitting comments.

• Email: Michael Brody, michael.brody@hq.dhs.gov. Please also include the docket number in the subject line of the message.

• Fax: 202-343-4294

• Mail: Michael Brody, Department of Homeland Security, OPS CIO-D Stop 0426, 245 Murray Lane, SW., BLDG 410, Washington, DC 20528-0426.

Instructions: All submissions received must include the words “Department of Homeland Security” and the docket number (DHS-2013-0037) for this action. Comments received will be posted without alteration at http://www.regulations.gov, including any personal information provided.

Docket: For access to the docket to read background documents or comments received by the HSINAC go to http://www.regulations.gov and type the docket number of DHS-2013-0037 into the “search” field at the top right of the Web site.

A public comment period will be held during the meeting on Tuesday, December 17, 2013 from 2:45 p.m. to 3 p.m., and speakers are requested to limit their comments to 3 minutes. Please note that the public comment period may end before the time indicated, following the last call for comments. Contact one of the individuals listed below to register as a speaker.

FOR FURTHER INFORMATION CONTACT: Designated Federal Officer, Michael Brody, Michael.brody@hq.dhs.gov, Phone: 202-343-4211, Fax: 202-343-4294, Or Alternate Designated Federal Officer, Sarah Schwettman, sarah.schwettman@hq.dhs.gov, Phone: 202-343-4212.

SUPPLEMENTARY INFORMATION: The Homeland Security Information Network Advisory Committee (HSINAC) is an advisory body to the Homeland Security Information Network (HSIN) Program Office. This committee provides advice and recommendations to the U.S. Department of Homeland Security (DHS) on matters relating to HSIN. These matters include system requirements, operating policies, community organization, knowledge management, interoperability and federation with other systems, and any other aspect of HSIN that supports the operations of DHS and its federal, state, territorial, local, tribal, international, and private sector mission partners. Notice of this meeting is given under the Federal Advisory Committee Act, 5 U.S.C. Appendix. The HSINAC provides advice and recommendations to DHS on matters relating to HSIN.

Agenda

• HSIN Program Update

○ New Hires—How the HSIN program has increased the quantity and quality of its Federal workforce.

○ New Development Contract—How the HSIN Program has implemented a new contract for the engineering and architecture team that builds the HSIN system.

○ New Outreach Contract—How the HSIN Program has implemented a new engagement to maintain and improve upon its mission advocate team for all HSIN users.

○ Budget/Investment Requirements—A summary of HSIN's current financial position, and expenditures for the upcoming fiscal year.

• HSIN Optimization and Development Vision

○ Improving System Performance and Service Operations—A summary of the steps the program has and will be taking to ensure the current platform meets user service requirements and agreements.

○ Interoperability and Federation—A discussion of the program's plans to link HSIN to a series of partner networks that will provide all users with greater access to new collaborative partners and their content.

○ Large List—A summary of how the program is implementing new ways to ensure the validation of users is fast and efficient.

○ New Development Environments—A discussion on how HSIN is creating a set of new virtual environments for its new development team to use that are stable and accurately replicate the actual network, to ensure, final, new developments work as planned and meet requirements.

○ DHS Suspicious Activity Reporting (SAR)—An introduction to how HSIN is developing a new capability for the quick and efficient delivery and sharing of suspicious activity reports by users of all kinds including those from the private sector.

• Portal Consolidation Update—A review of HSIN's efforts to save resources across the Federal government by consolidating a series of systems into the single, HSIN platform.

• Public comment period

• Deliberation/Voting/Obtain guidance from HSINAC on:

○ Stakeholder Management Strategy—A review of HSIN's new strategy for ensuring managed growth, user self-sufficiency, and prioritized engagements with critical partners in the coming year.

○ Messaging/Communications Strategy—An update on HSIN's work to define its place in the information sharing market, what defines it, its value proposition, and the best way to communicate these terms.

○ HSIN Mobile Use/Application Policy—An opportunity for HSINAC members to comment on the development of a new policy that will define the rights, duties and privileges to use HSIN on mobile devices ensuring security and accessibility.

• Closing remarks

• Adjournment of the meeting

James Lanoue,
HSIN Acting Program Manager.

[FR Doc. 2013-28703 Filed 11-27-13; 8:45 am]

BILLING CODE 9910-9B-P